DEPARTMENT OF HOMELAND SECURITY

Coast Guard

33 CFR Part 117

[Docket No. USCG-2017-0365]

Drawbridge Operation Regulation; Lewis Creek Channel, Chincoteague, VA

AGENCY: Coast Guard, DHS.

ACTION: Notice of deviation from drawbridge regulation.

SUMMARY: The Coast Guard has issued a temporary deviation from the operating schedule that governs the SR 175 Bridge that carries the SR 175 across the Lewis Creek Channel, mile 0.0, at Chincoteague, VA. The deviation is necessary to facilitate the Annual Pony Run. This deviation allows the bridge to remain in the closed-to-navigation position.

DATES: The deviation is effective from 7 a.m. on Wednesday July 26, 2017, through 5 p.m. on Thursday July 27, 2017.

ADDRESSES: The docket for this deviation, [USCG-2017-0365] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The Virginia Department of Transportation, owner and operator of the SR 175 Bridge that carries the SR 175 Bridge across the Lewis Creek Channel, mile 0.0, at Chincoteague, VA, has requested a temporary deviation from the current operating regulations to ensure the safety of the increased volumes of spectators that will be attending Annual Pony Run on Wednesday July 26, 2017, and Thursday July 27, 2017. This bridge is a bascule span drawbridge with a vertical clearance of 15 feet above mean high water in the closed position and unlimited vertical clearance in the open position. The current operating regulation is set out in 33 CFR 117.5. Under this temporary deviation, the bridge will be maintained in the closed-to-navigation position from 7 a.m. to 5 p.m. on Wednesday July 26, 2017 and Thursday July 27, 2017.

The Lewis Creek Channel is used by recreational vessels. The Coast Guard has carefully considered the nature and volume of vessel traffic on the waterway in publishing this temporary deviation.

Vessels able to pass through the bridge in the closed-to-navigation position may do so at any time. The bridge will be able to open for emergencies and there is no immediate alternative route for vessels unable to pass through the bridge in the closed position. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 26, 2017.
Hal R. Pitts,
Bridge Program Manager, Fifth Coast Guard District.

[FR Doc. 2017-13753 Filed 6-29-17; 8:45 am]

BILLING CODE 9110-04-P